ENVIRONMENTAL PROTECTION AGENCY

[OPPTS-00744; FRL-6804-6]

Forum on State and Tribal Toxics Action (FOSTTA); Open Meetings; Notice of Public Meeting

AGENCY: Environmental Protection Agency (EPA).

ACTION: Notice of public meeting.

SUMMARY: The Chemical Information and Management, Pollution Prevention, Tribal Affairs, and Toxics Release Inventory Projects, components of the Forum on State and Tribal Toxics Action (FOSTTA), will hold meetings October 22-23, 2001. This notice announces the location and times for the meetings and sets forth some tentative agenda topics. The National Conference of State Legislatures (NCSL) and the Environmental Protection Agency's (EPA) Office of Pollution Prevention and Toxics (OPPT) are co-sponsoring the meetings. As part of a cooperative agreement, NCSL facilitates ongoing efforts of the states and tribes to identify, discuss, and address toxics-related issues, and to continue the dialogue on how federal environmental programs can best be implemented.

DATES: The four components will meet concurrently October 22, 2001, from 8 a.m. to 5 p.m. and October 23, 2001, from 8 a.m. to noon. A plenary session is being planned for all the participants on Monday, October 22, 2001, from 8 a.m. to 9:30 a.m. The topic of the session has not been determined.

ADDRESSES: The meetings will be held at the Washington Court Hotel, 525 New Jersey Avenue, NW., Washington, DC. The hotel is about two blocks from Union Station.

FOR FURTHER INFORMATION CONTACT: For general information contact: Barbara Cunningham, Acting Director, Environmental Assistance Division, Office of Pollution Prevention and Toxics (7408), Environmental Protection Agency, 1200 Pennsylvania Avenue, NW., Washington, DC 20460; telephone number: (202) 260-1761.

For technical information contact: George Hagevik, National Conference of State Legislatures, 1560 Broadway, Suite 700, Denver, CO 80202; telephone: (303) 839-0273 and FAX: (303) 863-8003; e-mail: george.hagevik@ncsl.org or Darlene Harrod, Environmental Assistance Division (7408M), Office of Pollution Prevention and Toxics, Environmental Protection Agency, 1200 Pennsylvania Avenue, NW., Washington, DC 20460; telephone: (202) 564-8814 and FAX: (202) 564-8813; e-mail: harrod.darlene@epamail.epa.gov.

SUPPLEMENTARY INFORMATION:

I. Does This Notice Apply to Me?

This action is directed to the public in general. This action may, however, be of interest to all parties interested in FOSTTA and hearing more about the perspectives of the States and Tribes on EPA programs and the information exchange regarding important issues related to human health and environmental exposure to toxics. Since other entities may also be interested, the Agency has not attempted to describe all the specific entities that may be affected by this action. However, in the interest of time and efficiency, the meetings are structured to provide maximum opportunity for state, tribal, and EPA participants to discuss items on the predetermined agenda. At the discretion of the chair, an effort will be made to accommodate participation by observers attending the proceedings. If you have any questions regarding the applicability of this action to a particular entity, consult the technical people listed under FOR FURTHER INFORMATION CONTACT.

II. How Can I Get Additional Information, Including Copies of This Document or Other Related Documents?

1. Electronically. You may obtain electronic copies of this document from the EPA Internet Home Page. Go to http://www.epa.gov/fedrgstr/nfs_comm.htm, select “Laws and Regulations,” and then look up the entry for this document under “Federal Register—Environmental Documents. You can also go directly to the Federal Register at http://www.access.gpo.gov/su_docs/aces/aces140.html. You can obtain certain other related documents that might be available electronically, from the NCSL Web site at http://www.ncsl.org/programs/esnr/fostta/fostta.htm.

2. Facsimile. Notify the contacts listed under FOR FURTHER INFORMATION CONTACT above if you would like any of the documents sent to you via fax.

III. Purpose of Meeting

As part of FOSTTA, the Chemical Information and Management Project focuses on EPA's Chemical Right-to-Know Program and works to develop a more coordinated effort involving federal, state, and tribal agencies. The Pollution Prevention Project promotes the prevention ethic across society, helping companies incorporate P2 approaches and techniques and integrating P2 into mainstream environmental activities at both the federal level and among the states. The Tribal Affairs Project concentrates on chemical and prevention issues that are most relevant to the tribes, including lead control and abatement, subsistence lifestyle, and hazard communications and outreach. Under the Emergency Planning and Community Right-to-Know Act, EPA, the states, and tribes share responsibility for handling toxic chemical release information and making it available to the public through the Toxics Release Inventory. Through the Toxics Release Inventory Project, EPA and the state TRI program staff have an opportunity to discuss what works and what does not in their respective programs and to share ideas for the future evolution of the program.

IV. Purpose of Meeting

This unit provides the tentative agenda items identified by NCSL, the states, and the tribes:

1. Update on the High Production Volume Challenge Program and the Voluntary Children's Chemical Evaluation Program (Chemical Information and Management Project)

2. Pollution Prevention Integration Opportunities (Pollution Prevention Project)

3. Lead Workshops/Guidance Documents (Toxics Release Inventory Project)

4. Tribal Risk Assessment and Subsistence Summit (Tribal Affairs Project)

5. Other topics as appropriate.

V. How Can I Participate in This Meeting?

You may submit a request to participate in this meeting in the mail or electronically to the names under the FOR FURTHER INFORMATION CONTACT. Do not submit any information in your request that is considered Confidential Business Information. Your request must be received by EPA on or before October 19, 2001.

List of Subjects

Environmental protection.

Dated: September 18, 2001.
Barbara Cunningham,
Acting Director, Environmental Assistance Division, Office of Pollution Prevention and Toxics.

[FR Doc. 01-24059 Filed 9-25-01; 8:45 am]

BILLING CODE 6560-50-P